NUCLEAR REGULATORY COMMISSION

Notice of Sunshine Act Meetings

Agency Holding the Meetings: Nuclear Regulatory Commission.

Date: Weeks of September 3, 10, 17, 24, October 1, 8, 2007.

Place: Commissioners' Conference Room, 11555 Rockville Pike, Rockville, Maryland.

Status: Public and Closed.

Matters To Be Considered

Week of September 3, 2007

Tuesday, September 4, 2007

2:30 p.m. Briefing on Radioactive Materials Security and Licensing (Public Meeting) (Contact: Robert Lewis, 301-415-8722).

This meeting will be webcast live at the Web address— http://www.nrc.gov.

Week of September 10, 2007—Tentative

There are no meetings scheduled for the Week of September 10, 2007.

Week of September 17, 2007—Tentative

There are no meetings scheduled for the Week of September 17, 2007.

Week of September 24, 2007—Tentative

There are no meetings scheduled for the Week of September 24, 2007.

Week of October 1, 2007—Tentative

Tuesday, October 2, 2007

9:30 a.m. Periodic Briefing on Security Issues (Closed—Ex. 1 & 3).

Wednesday, October 3, 2007

2 p.m. Briefing on NRC's International Programs, Performance, and Plans (Public Meeting) (Contact: Karen Henderson, 301-415-0202).

This meeting will be webcast live at the Web address— http://www.nrc.gov.

Week of October 8, 2007—Tentative

There are no meetings scheduled for the Week of October 8, 2007.

* * * * *

*The schedule for Commission meetings is subject to change on short notice. To verify the status of meetings call (recording)—(301) 415-1292. Contact person for more information: Michelle Schroll, (301) 415-1662.

* * * * *

Additional Information

Affirmation of “Pacific Gas and Electric Co. (Diablo Canyon ISFSI), Docket No. 72-26-ISFSI, San Luis Obispo Mothers for Peace's Contentions and Request for Hearing Regarding Diablo Canyon Environmental Assessment Supplement” tentatively scheduled on August 30, 2007, at 9 a.m. has been postponed and not yet rescheduled.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 30, 2007.
R. Michelle Schroll,
Office of the Secretary.

[FR Doc. 07-4351 Filed 8-31-07; 11:51 am]

BILLING CODE 7590-01-P